DEPARTMENT OF COMMERCE

Foreign-Trade Zones Board

[B-41-2023]

Foreign-Trade Zone 277—Western Maricopa County, Arizona; Application for Expansion (New Magnet Site); Under Alternative Site Framework

An application has been submitted to the Foreign-Trade Zones (FTZ) Board by the Greater Maricopa Foreign Trade Zone, Inc., grantee of FTZ 277, requesting authority to expand its zone under the alternative site framework (ASF) adopted by the FTZ Board (15 CFR 400.2(c)) to include a new magnet site in El Mirage, Arizona. The application was submitted pursuant to the Foreign-Trade Zones Act, as amended (19 U.S.C. 81a-81u), and the regulations of the Board (15 CFR part 400). It was formally docketed on June 26, 2023.

FTZ 277 was approved by the Board on December 22, 2010 (Board Order 1733, 76 FR 1134, January 7, 2011), reorganized under the ASF on December 16, 2011 (Board Order 1804, 76 FR 80886, December 27, 2011) and expanded on December 23, 2013 (Board Order 1924, 79 FR 2152-2153, January 13, 2014). The zone currently has a service area that includes a portion of Maricopa County and consists of two magnet sites and eight usage-driven sites.

The applicant is now requesting authority to expand its zone to include an additional magnet site: Proposed Site 19 (694 acres)—LogistiCenter at Copperwing located on property south of West Peoria Ave. and north of Northern Parkway, with North El Mirage Rd. as the eastern boundary and Litchfield Rd. as the western boundary in El Mirage, Arizona. The proposed new site is adjacent to the Phoenix Customs and Border Protection port of entry.

In accordance with the FTZ Board's regulations, Qahira El-Amin of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is August 29, 2023. Rebuttal comments in response to material submitted during the foregoing period may be submitted during the subsequent 15-day period to September 13, 2023.

A copy of the application will be available for public inspection in the “Online FTZ Information Section” section of the FTZ Board's website, which is accessible via www.trade.gov/ftz. For further information, contact Qahira El-Amin at Qahira.El-Amin@trade.gov.

Dated: June 26, 2023.
Elizabeth Whiteman,
Executive Secretary.

[FR Doc. 2023-13957 Filed 6-29-23; 8:45 am]

BILLING CODE 3510-DS-P